DEPARTMENT OF ENERGY

International Energy Agency Meeting

AGENCY: Department of Energy.

ACTION: Notice of meeting.

SUMMARY: Subject to timely enactment of legislation to reinstate the antitrust defense under section 252 of the Energy Policy and Conservation Act, a meeting of the Industry Advisory Board to the International Energy Agency (IEA) will be held on November 14, 2000, at the headquarters of the IEA in Paris, France in connection with a joint meeting of the IEA's Standing Group on Emergency Questions and Standing Group on Oil Markets.

FOR FURTHER INFORMATION CONTACT: Samuel M. Bradley, Assistant General Counsel for International and National Security Programs, Department of Energy, 1000 Independence Avenue, SW., Washington, DC 20585, 202-586-6738.

SUPPLEMENTARY INFORMATION: Subject to timely enactment of legislation to reinstate the antitrust defense under section 252 of the Energy Policy and Conservation Act (EPCA), the following meeting notice is provided, in accordance with section 252(c)(1)(A)(i) of the EPCA (42 U.S.C. 6272(c)(1)(A)(i)):

A meeting of the Industry Advisory Board (IAB) to the International Energy Agency (IEA) will be held at the headquarters of the IEA, 9, rue de la Fédération, Paris, France, on November 14, 2000, beginning at approximately 9 a.m. The purpose of this notice is to permit attendance by representatives of U.S. company members of the IAB at a joint meeting of the IEA's Standing Group on Emergency Questions (SEQ) and the Standing Group on Oil Markets (SOM), which is scheduled to be held at the IEA on November 14 beginning at 2:30 p.m., including a preparatory encounter among company representatives on November 14 from approximately 9:00 a.m. to 9:15 a.m.

The Agenda for the preparatory encounter among company representatives is to elicit views regarding items on the SEQ/SOM's Agenda. The Agenda for the SEQ/SOM meeting is under the control of the SEQ/SOM. It is expected that the SEQ/SOM will follow the following:

Agenda

1. Current Oil Market Situation

2. Market Psychology: A Trader's Perspective

3. Heating Oil Situation and Possible Responses

—Report on Results of Special Statistical Survey

—Discussion on Possible IEA Response

4. Current Situation with Independent Storage

As provided in section 252(c)(1)(A)(ii) of the Energy Policy and Conservation Act (42 U.S.C. 6272(c)(1)(A)(ii)), this meeting is open only to representatives of members of the IAB and their counsel, representatives of members of the SEQ, representatives of the Departments of Energy, Justice, and State, the Federal Trade Commission, the General Accounting Office, Committees of Congress, the IEA, and the European Commission, and invitees of the IAB, the SEQ, or the IEA.

Issued in Washington, D.C., November 7, 2000.
Eric J. Fygi,
Acting General Counsel.

[FR Doc. 00-29068 Filed 11-9-00; 8:45 am]

BILLING CODE 6450-01-P